DEPARTMENT OF AGRICULTURE

Forest Service

Alabama Resource Advisory Committee

AGENCY: Forest Service, Agriculture (USDA).

ACTION: Notice of meeting.

SUMMARY: The Alabama Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on the National Forest in Alabama, consistent with the Federal Lands Recreation Enhancement Act. RAC information can be found at the following website: https://www.fs.usda.gov/main/alabama/workingtogether/advisorycommittees.

DATES: The meeting will be held on Tuesday, August 10, 2021 and is scheduled from 9:00 a.m.-12:00 p.m. Central Daylight Time.

All RAC meetings are subject to cancellation. For meeting status prior to attendance, please contact the person listed under FOR FURTHER INFORMATION CONTACT.

ADDRESSES: The meeting will be held virtually via Microsoft Teams web link and conference call line.

Conference Call Line: 1-888-844-9904 (Passcode: 9178016)

Meeting Link: Alabama RAC 2021 Meeting

Written comments may be submitted as described under SUPPLEMENTARY INFORMATION. All comments, including names and addresses when provided, are placed in the record and are available for public inspection and copying. The public may inspect comments received at the Supervisor's Office in Montgomery, Alabama. Please call ahead at 334-241-8173 to set an appointment and to facilitate entry into the building.

FOR FURTHER INFORMATION CONTACT: Sheila Holifield, RAC Coordinator, by phone at 334-235-5494 or via email at sheila.holifield@usda.gov; or Tammy Freeman Brown, Designated Federal Officer, by phone at 334-315-4926 or via email at tammy.freemanbrown@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Introduce new RAC Members;

2. Discuss the purpose of RAC operating guidelines and responsibilities;

3. Elect a RAC Chairperson;

4. Discuss previously approved projects, potential projects, and processes; and

5. Schedule next meeting.

The meeting is open to the public. The agenda will include time for people to make oral statements of three minutes or less. Individuals wishing to make an oral statement should make a request in writing by Tuesday, August 3, 2021, to be scheduled on the agenda. Anyone who would like to bring related matters to the attention of the RAC may file written statements with RAC staff before or after the meeting. Written comments and requests for time for oral comments must be sent to Sheila Holifield, RAC Coordinator by email to sheila.holifield@usda.gov.

Meeting Accommodations: If you require reasonable accommodation, please make requests in advance for sign language interpreting, assistive listening devices, or other reasonable accommodation. For access to the facility or proceedings, please contact the person listed in the section titled FOR FURTHER INFORMATION CONTACT. All reasonable accommodation requests are managed on a case-by-case basis.

Dated: July 13, 2021.
Cikena Reid,
USDA Committee Management Officer.

[FR Doc. 2021-15209 Filed 7-16-21; 8:45 am]

BILLING CODE 3411-15-P